FEDERAL RESERVE SYSTEM

Formations of, Acquisitions by, and Mergers of Bank Holding Companies; Correction

This notice corrects a notice FR Doc. 2016-20202 published on page 57910 of the issue for August 24, 2016.

Under the Federal Reserve Bank of Atlanta heading, the entry for Sunshine Bancorp, Inc., Plant City, Florida (“Sunshine”) is revised to read as follows:

A. Federal Reserve Bank of Atlanta (Chapelle Davis, Assistant Vice President) 1000 Peachtree Street NE., Atlanta, Georgia 30309. Comments can also be sent electronically to Applications.Comments@atl.frb.org:

1. Sunshine Bancorp, Inc., Plant City, Florida (“Sunshine”); to become a savings and loan holding company. Sunshine currently is a savings and loan holding company; Sunshine proposes to become a bank holding company for a moment in time by merging with FBC Bancorp Inc., Orlando, Florida and acquire its subsidiary bank, Florida Bank of Commerce, Orlando Florida, (“FB Bank”). Sunshine also has applied to retain its savings association, Sunshine Bank, Plant City, Florida. After the acquisition, Sunshine proposes to merge FB Bank with Sunshine Bank, with Sunshine Bank as the surviving entity, and become a savings and loan holding company.

Comments on this application must be received by September 21, 2016.

Board of Governors of the Federal Reserve System, September 1, 2016.
Robert deV. Frierson,
Secretary of the Board.

[FR Doc. 2016-21471 Filed 9-7-16; 8:45 am]

BILLING CODE 6210-01-P